SOCIAL SECURITY ADMINISTRATION

[Docket No. SSA-2020-0063]

Privacy Act of 1974; Matching Program

AGENCY: Social Security Administration (SSA).

ACTION: Notice of a New Matching Program.

SUMMARY: In accordance with the provisions of the Privacy Act, as amended, this notice announces a new matching program with the Office of Personnel Management (OPM).

This matching agreement sets forth the terms, conditions, and safeguards under which OPM will provide SSA with civil service benefit and payment data. This disclosure will provide SSA with information necessary to verify an individual's self-certification of eligibility for the Extra Help with Medicare Prescription Drug Plan Costs program (Extra Help). It will also enable SSA to identify individuals who may qualify for Extra Help as part of the agency's Medicare outreach efforts.

DATES: The deadline to submit comments on the proposed matching program is September 13, 2021. The matching program will be applicable on September 13, 2021, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2020-0063 so that we may associate your comments with the correct regulation.

CAUTION: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2020-0063 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Melissa Feldhan, Division Director, Office of Privacy and Disclosure, Office of the General Counsel, Social Security Administration, G-401 WHR, 6401 Security Boulevard, Baltimore MD 21235-6401, at telephone: (410) 965-1416, or send an email to Melissa.Feldhan@ssa.gov.

SUPPLEMENTARY INFORMATION: None.

Matthew Ramsey,
Executive Director, Office of Privacy and Disclosure, Office of the General Counsel.

Participating Agencies

SSA and OPM.

Authority for Conducting the Matching Program

The legal authority for OPM to disclose information under this agreement is 42 U.S.C. 1383(f).

The legal authority for SSA to conduct this computer matching is 1144(a)(1) and (b)(1) and 1860D-14(a)(3) of the Social Security Act (42 U.S.C. 1320b-14(a)(1) and (b)(1) and 1395w-114(a)(3)).

Purpose(s)

This matching agreement sets forth the terms, conditions, and safeguards under which OPM will provide SSA with civil service benefit and payment data. This disclosure will provide SSA with information necessary to verify an individual's self-certification of eligibility for the Extra Help with Medicare Prescription Drug Plan Costs program (Extra Help). It will also enable SSA to identify individuals who may qualify for Extra Help as part of the agency's Medicare outreach efforts.

Categories of Individuals

The individuals whose information is involved in this matching program are individuals who self-certify their eligibility for the Extra Help program.

Categories of Records

OPM's data file will consist of approximately 75,000 records of updated payment information for new civil service annuitants and annuitants whose civil service annuity has changed. SSA's comparison file consists of approximately 111 million records from the Medicare Database file.

OPM will provide SSA with electronic files containing civil service benefit and payment data for individuals who apply for the Extra Help program. The file includes:

a. Payee Name and Date of Birth,

b. Payee Social Security number,

c. Payee Civil Service Claim Number, and

d. Amount of current gross civil service benefits.

System(s) of Records

OPM will provide SSA with electronic files containing civil service benefit and payment data from its system of records (SOR) titled OPM/Central-1, Civil Service Retirement and Annuitant Records, last fully published at 73 FR 15013 (March 20, 2008), and amended at 80 FR 74815 (Nov. 30, 2015).

SSA will match OPM data with the SSA SOR 60-0321, “Medicare Database File,” last fully published at 71 FR 42159 (July 25, 2006), and amended at 72 FR 69723 (December 10, 2007) and 83 FR 54969 (November 1, 2018).

[FR Doc. 2021-17269 Filed 8-11-21; 8:45 am]

BILLING CODE 4191-02-P